NATIONAL AERONAUTICS AND SPACE ADMINISTRATION

[Notice 01-028]

National Environmental Policy Act; Mars Exploration Rover-2003 Project

AGENCY: National Aeronautics and Space Administration.

ACTION: Notice of intent to prepare an environmental impact statement and to conduct scoping for the Mars Exploration Rover-2003 (MER-2003) project.

SUMMARY: Pursuant to the National Environmental Policy Act of 1969 (NEPA), as amended (42 U.S.C. 4321 et seq.), the Council on Environmental Quality Regulations for Implementing the Procedural Provisions of NEPA (40 CFR parts 1500-1508), and NASA's policy and procedures (14 CFR part 1216 subpart 1216.3), NASA intends to conduct scoping and prepare an environmental impact statement (EIS) for the proposed Mars Exploration Rover-2003 (MER-2003) project. The purpose of this project would be to place two mobile science laboratories (rovers) on the surface of Mars to remotely conduct geological investigations, and to characterize a diversity of rocks and soils, which may hold clues to past water activity.

The MER-2003 project involves two launches in 2003 of identical MER-2003 spacecraft (the MER-A mission and MER-B mission) from Cape Canaveral Air Force Station (CCAFS), Florida. The MER-A launch aboard a Delta II launch system would occur during May or June 2003. The MER-B launch would occur during June or July 2003, also aboard a Delta II launch system. Potential environmental impacts to be considered are those potential impacts associated with normal launches from CCAFS, and radiological and non-radiological risks associated with launch accidents. Each rover and its associated lander in combination (lander-rover) may require the use of up to 11 Radioisotope Heater Units (RHUs) for temperature control and small quantities of curium-244 and cobalt-57 for scientific instrumentation.

DATES: Interested parties are invited to submit comments on environmental concerns in writing on or before April 9, 2001, to assure full consideration during the scoping process.

ADDRESSES: Comments should be addressed to Mr. David Lavery, NASA Headquarters, Code SD, Washington, DC 20546-0001. While hardcopy comments are preferred, comments may be sent by electronic mail to: marsnepa@hq.nasa.gov.

FOR FURTHER INFORMATION CONTACT: David Lavery, 202-358-4800 or by electronic mail at marsnepa@hq.nasa.gov.

SUPPLEMENTARY INFORMATION: NASA proposes to launch the MER-2003 spacecraft (MER-A and MER-B) in 2003 to gather scientific data on the geological characteristics of the Martian surface environment in pursuit of NASA's goal of understanding Mars in terms of whether or not life exists or has ever existed on the planet. The MER-2003 project would help NASA ensure continuity of its overall Mars exploration efforts.

The proposed first launch of the MER-A mission would take place during May or June 2003 from CCAFS. A Delta II launch system would be employed to launch the spacecraft on its trajectory to Mars, with an arrival in January 2004. The Delta II launch system would include nine graphite epoxy strap-on solid rocket motors, a liquid bi-propellant first stage, a liquid bi-propellant restartable second stage, and a solid propellant STAR-48B third stage. The MER-B mission would be launched from CCAFS during June or July 2003 using a Delta II launch system, with an arrival at Mars in February 2004.

Each MER-2003 spacecraft would consist of a cruise stage and an entry, descent, and landing (EDL) system which would include an aeroshell, backshell, parachute, and airbags. A lander containing a large rover would be enclosed within the EDL system. The primary function of the EDL system would be to convey its lander-rover safely to the surface of the planet. Each rover would weigh up to approximately 153 kilograms (about 337 pounds). Each rover would carry all science instruments and communications equipment for transmitting to and receiving data from Earth, either by using an existing Mars orbiting spacecraft or by communicating directly with Earth.

Each rover would be equipped with a number of scientific instruments, including: a stereo panoramic camera, a miniature thermal emission spectrometer, a magnetic target array, a Moëssbauer spectrometer, a microscopic surface imager, an alpha-particle X-ray spectrometer (APXS), and a rock abrasion tool. These instruments would be employed to characterize the chemical and geological nature of the landing site and surrounding area, and to provide images for transmission to Earth. Each rover would be designed to function a minimum of 90 sols (1 sol = 1 Martian day = 24 hours, 37 minutes or 1.026 Earth days). The Moëssbauer spectrometer and the APXS both would employ small amounts of radioactive materials as instrument sources. The Moëssbauer spectrometer would utilize up to 1.30 × 10¹⁰ becquerels (Bq) (350 millicuries (mCi)) of cobalt-57. The APXS would use up to 1.85 × 10⁹ Bq (50 mCi) of curium-244. Radioisotope Heater Units (RHUs) would be used on each rover to support survival of science instruments and electronics in the low temperatures on Mars. RHUs may also be required on each lander for thermal control during cruise. Each RHU contains approximately 2.7 grams (about 0.1 ounce) of plutonium dioxide to generate heat. A total of up to eleven RHUs may be required on-board each lander-rover. The inventory of plutonium dioxide on-board each lander-rover could total up to 29.7 grams (1.1 ounces) with a total activity of about 13.5 × 10¹² Bq (approximately 365 curies (Ci)).

The proposed MER-2003 missions would employ a technique similar to that demonstrated by the 1996 Mars Pathfinder mission to ensure a safe landing on the surface of Mars. This technique would employ a heat shield, small solid retro-rockets, and a parachute to decelerate the lander as it passes through the Martian atmosphere. A system of airbags would then be used to cushion and protect the lander upon contact with the Martian surface. Once each lander comes to rest the airbags would deflate and the lander petals would unfold. Each rover would then drive off of its lander platform and begin exploring the landing site. NASA has not selected specific landing sites yet but is currently considering potential sites between 15 degrees South to 5 degrees North for the MER-A mission, and between 15 degrees South and 15 degrees North for the MER-B mission.

This EIS will address the purpose and need for the proposed MER-2003 project in detail and the environmental impacts associated with its implementation. The environmental impacts of this project are anticipated to be those associated with the normal launch of both missions. Potential consequences of accident situations will also be addressed.

Written public input and comments on environmental impacts and concerns associated with the Mars Exploration Rover-2003 project are requested.

Jeffrey E. Sutton,
Associate Administrator for Management Systems.

[FR Doc. 01-4363 Filed 2-21-01; 8:45 am]

BILLING CODE 7510-01-P